FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011611-002.

Title: MOL/APL Slot Transfer Agreement.

Parties: American President Lines, Ltd.; APL Co. PTE, Ltd.; and Mitsui O.S.K. Lines, Ltd.

Filing Party: David B. Cook, Esq.; Goodwin Procter LLP; 901 New York Ave., NW., Washington, DC 20001.

Synopsis: The modification deletes the Trans-Atlantic trades from the agreement and expands the agreement in the Latin America trades to include ports on the U.S. Atlantic Coast and the Pacific Coasts of Central America and South America.

Agreement No.: 012071-001.

Title: APL/Hanjin Reciprocal Space Charter Agreement.

Parties: American President Lines, Ltd.; APL Co. Pte, Ltd.; and Hanjin Shipping Co., Ltd.

Filing Party: Eric. C. Jeffrey, Esq.; Counsel for APL; Goodwin Procter LLP; 901 New York Avenue, NW., Washington, DC 20001.

Synopsis: The amendment updates APL's corporate address.

Agreement No.: 201203-003.

Title: Port of Oakland/Oakland Marine Terminal Operator Agreement.

Parties: Eagle Marine Services, Ltd.; Ports of America Outer Harbor Terminal, LLC; Port of Oakland; Seaside Transportation Service LLC; SSA Terminals (Oakland), LLC; Total Terminals International, LLC; and Trapac, Inc.

Filing Party: Wayne Rohde, Esq.; Cozen O'Connor; 1627 I Street, NW., Suite 1100, Washington, DC 20006.

Synopsis: The amendment adds the authority for the parties to discuss Cold-Ironing; changes the address of one of the parties, and deletes Transbay Container Terminal, Inc. as a party to the Agreement.

By Order of the Federal Maritime Commission.
Dated: October 1, 2010.
Rachel E. Dickon,
Assistant Secretary.

[FR Doc. 2010-25165 Filed 10-5-10; 8:45 am]

BILLING CODE P